DEPARTMENT OF ENERGY

Federal Energy Regulatory Commission

[Docket No. EL14-98-000]

Arizona Public Service Company; Notice of Institution of Section 206 Proceeding and Refund Effective Date

On October 3, 2014, the Commission issued an order in Docket No. EL14-98-000, pursuant to section 206 of the Federal Power Act (FPA), 16 U.S.C. 824e (2012), instituting an investigation to determine whether market-based rate authority for Arizona Public Service Company (APS) in the APS balancing authority area and the Phoenix Valley Load Pocket is just and reasonable. Arizona Public Service Company, 149 FERC ¶ 61,013 (2014).

The refund effective date in Docket No. EL14-98-000, established pursuant to section 206(b) of the FPA, will be the date of publication of this notice in the Federal Register.

Dated: October 3, 2014.
Kimberly D. Bose,
Secretary.

[FR Doc. 2014-24298 Filed 10-10-14; 8:45 am]

BILLING CODE 6717-01-P